DEPARTMENT OF ENERGY

Federal Energy Regulatory Commission

Sunshine Act Meeting; Agenda Addition

AGENCY HOLDING MEETING: Federal Energy Regulatory Commission.

FEDERAL REGISTER CITATION OF PREVIOUS ANNOUNCEMENT: February 5, 2001, 66 FR 8959.

PREVIOUSLY ANNOUNCED TIME AND DATE OF MEETING: February 7, 10 a.m.

CHANGE IN THE MEETING: The following Item No. has been added to the February 7, 2001 Commission meeting.

Item No.: CAC-7.

Docket No. and Company: CP01-28-000, Columbia Gulf Transmission Company.

David P. Boergers,
Secretary.

[FR Doc. 01-3555 Filed 2-7-01; 8:45 am]

BILLING CODE 6717-01-M